DEPARTMENT OF LABOR

Mine Safety and Health Administration

30 CFR Parts 56 and 57

[Docket No. MSHA-2014-0030]

RIN 1219-AB92

Examinations of Working Places in Metal and Nonmetal Mines

AGENCY: Mine Safety and Health Administration, Labor.

ACTION: Notification of public stakeholder meetings.

SUMMARY: The Mine Safety and Health Administration (MSHA) is announcing the dates and locations of public stakeholder meetings on the Agency's standards for Examinations of Working Places in Metal and Nonmetal Mines.

DATES: The meeting dates and locations are listed in the SUPPLEMENTARY INFORMATION section of this document.

ADDRESSES: Federal Register Publications: Access rulemaking documents electronically at http://www.msha.gov/regsinfo.htm or http://www.regulations.gov [Docket Number: MSHA-2014-0030].

FOR FURTHER INFORMATION CONTACT: Sheila A. McConnell, Director, Office of Standards, Regulations, and Variances, MSHA, at mcconnell.sheila.a@dol.gov (email), 202-693-9440 (voice), or 202-693-9441 (fax). These are not toll-free numbers.

SUPPLEMENTARY INFORMATION:

I. Stakeholder Meetings

MSHA will hold five public stakeholder meetings to inform the mining community of the requirements of the Examinations of Working Places in Metal and Nonmetal Mines final rule, which was effective September 30, 2019. At the meetings, MSHA will provide training and compliance assistance materials to attendees. Most of the public meetings will begin at 9 a.m. local time. The meetings in Birmingham and Bloomington will start at 1:30 p.m. local time. The following table lists the dates and start times at the locations indicated:

Examinations of Working Places in Metal and Nonmetal Mines
[Stakeholder meetings dates, times, and locations]
Date/time | Location | Contact No.
October 29, 2019, 9 a.m. Central Daylight Savings Time | DoubleTree by Hilton Hotel Dallas—Market Center, 2015 Market Center Blvd., Dallas, Texas 75207 | (214) 741-7481
Nov. 7, 2019, 1:30 p.m. Central Standard Time | Renaissance Birmingham, Ross Bridge, 4000 Grand Ave., Birmingham, Alabama 35226 | (205) 916-7677
November 12, 2019, 1:30 p.m. Central Standard Time | DoubleTree by Hilton Hotel Bloomington, 10 Brickyard Drive, Bloomington, Illinois 61701 | (309) 664-6446
November 14, 2019, 9 a.m. Mountain Standard Time | Hilton Garden Inn, Denver Tech Center, 7675 E Union Ave., Denver, CO 80237 | (303) 770-4200
November 21, 2019, 9 a.m. Eastern Standard Time | Hilton Garden Inn, Pittsburgh Downtown, 250 Forbes Avenue, Pittsburgh, Pennsylvania 15222 | (412) 281-5557

II. Background

On September 30, 2019, MSHA published a technical amendment, Examinations of Working Places in Metal and Nonmetal (MNM) Mines (84 FR 51400). The technical amendment recognized the legal effect of the D.C. Circuit Court's June 11, 2019, order and August 23, 2019, mandate that MSHA revise 30 CFR 56.18002 and 57.18002 to reinstate the regulatory provisions established by the Agency's January 23, 2017, final rule, Examinations of Working Places in Metal and Nonmetal Mines (“January 2017 rule”) (82 FR 7680).

The reinstated January 2017 rule requires: (1) That an examination of the working place be conducted at least once each shift before miners begin working in the place; (2) that operators notify miners in the affected areas of any conditions found that may adversely affect their safety or health; (3) that operators promptly initiate corrective actions; and (4) that a record be made of the examination. The final rule requires the examination record to include: The name of the person conducting the examination, the date of the examination, the location of all areas examined, a description of each condition found that may adversely affect the safety and health of miners, and the date of corrective action. The final rule also requires the operator to make the examination record available to the authorized representative of the Secretary and miners' representatives and provide a copy upon request (84 FR 51400).

Currently, compliance assistance materials are available at https://www.msha.gov/regulations/rulemaking/examinations-working-places-metal-and-nonmetal-mines. These materials include Frequently Asked Questions and mine operators' sample templates and checklists provided as best practices.

David G. Zatezalo,
Assistant Secretary of Labor for Mine Safety and Health Administration.

[FR Doc. 2019-22497 Filed 10-16-19; 8:45 am]

BILLING CODE 4520-43-P